NUCLEAR REGULATORY COMMISSION

[Docket No. 030-36974]

Notice of Availability of Final Environmental Assessment and Finding of No Significant Impact for Proposed Pa'ina Hawaii, LLC Irradiator in Honolulu, HI

AGENCY: Nuclear Regulatory Commission.

ACTION: Notice of Availability and Finding of No Significant Impact.

SUMMARY: Notice is hereby given that the U.S. Nuclear Regulatory Commission (NRC) is issuing a final Environmental Assessment (EA) for the Pa'ina Hawaii, LLC (Pa'ina or the applicant) license application, dated June 23, 2005, which requested authorization to use sealed radioactive sources in an underwater irradiator for the production and research irradiation of food, cosmetic, and pharmaceutical products. The final EA is being issued as part of the NRC's decision-making process on whether to issue a license to Pa'ina, pursuant to Title 10 of the U.S. Code of Federal Regulations Part 36, “Licenses and Radiation Safety Requirements for Irradiators.” The proposed irradiator would be located immediately adjacent to Honolulu International Airport on Palekona Street near Lagoon Drive. The irradiator would primarily be used for phytosanitary treatment of fresh fruit and vegetables bound for the mainland from the Hawaiian Islands and similar products being imported to the Hawaiian Islands as well as irradiation of cosmetics and pharmaceutical products. The irradiator would also be used by the applicant to conduct research and development projects, and irradiate a wide range of other materials as specifically approved by the NRC on a case-by-case basis.

FOR FURTHER INFORMATION CONTACT: Patricia Swain, Environmental Project Manager, Environmental and Performance Assessment Branch, Division of Waste Management and Environmental Protection, Mail Stop T8-F5, U.S. Nuclear Regulatory Commission, Washington, DC 20555-0001. Telephone: (301) 415-5405; e-mail: pbs2@nrc.gov.

SUPPLEMENTARY INFORMATION:

I. Introduction

On June 27, 2005, the U.S. Nuclear Regulatory Commission (NRC) received a license application from Pa'ina Hawaii, LLC, that, if approved, would authorize the use of sealed radioactive sources in an underwater irradiator for the production and research irradiation of food, cosmetic, and pharmaceutical products. The proposed irradiator would be located immediately adjacent to Honolulu International Airport on Palekona Street near Lagoon Drive. The irradiator would primarily be used for phytosanitary treatment of fresh fruit and vegetables bound for the mainland from the Hawaiian Islands and similar products being imported to the Hawaiian Islands as well as irradiation of cosmetics and pharmaceutical products. The irradiator would also be used by the applicant to conduct research and development projects, and irradiate a wide range of other materials as specifically approved by the NRC on a case-by-case basis.

The NRC has completed its evaluation of the proposed irradiator against the requirements found in the NRC's regulations at Title 10 of the Code of Federal Regulations, Part 51, “Environmental Protection Regulations for Domestic Licensing and Related Regulatory Functions,” (i.e., 10 CFR Part 51). Typically, the licensing of irradiators is categorically excluded from detailed environmental review as described in the NRC regulations at 10 CFR 51.22(c)(14)(vii). However, the NRC staff entered into a settlement agreement with Concerned Citizens of Honolulu, the interveners in the adjudicatory hearing to be held on the license application. The settlement agreement included a provision for the NRC staff to prepare a draft EA and hold a public comment meeting in Honolulu, Hawaii prior to making a final decision.

The NRC staff published a notice in the Federal Register requesting public review and comment on the draft Environmental Assessment on December 28, 2006 (71 FR 78231) and established February 8, 2007 as the deadline to submit comments. Approximately 47 individual comment documents (i.e., letters, facsimiles, and e-mails) were received by the NRC. Also, 221 identical e-mails were submitted by various individuals. In addition, oral comments were received from 43 individuals at the public meeting conducted by NRC in Honolulu on February 1, 2007. The staff also issued a supplemental appendix to the Draft EA on June 8, 2007 (72 FR 31866) which presented the staff's consideration of terrorist acts on the proposed facility. The staff established July 9, 2007 as the deadline for submitting public comments on Appendix B and received comments from six individuals.

The NRC staff reviewed each comment letter and the transcript of the public meeting. Comments relating to similar issues and topics were grouped. The final EA includes an appendix which presents summaries of comments, along with the NRC staff's corresponding responses. When comments have resulted in a modification to the draft EA, those changes are noted in the staff's response. In cases for which the comments did not warrant a detailed response, the NRC staff provided an explanation as to why no further response is necessary. In all cases, the NRC staff sought to respond to all comments received during the public comment period.

II. EA Summary

The purpose of the license request (i.e., the proposed action) is to authorize Pa'ina Hawaii to use sealed radioactive sources in a pool irradiator to be located adjacent to the Honolulu International Airport, Honolulu, Hawaii. Pa'ina's license request was previously noticed in the Federal Register on August 2, 2005 (70 FR 44396) with a notice of an opportunity to request a hearing.

The staff has completed its final EA in support of its review of the license application. The staff considered impacts to such areas as public and occupational health, transportation of the sources, socioeconomics, ecology, water quality, and the effects of aviation accidents and natural phenomena.

During routine operations the dose rate at the surface of the irradiator pool is expected to be well below 1 millirem/hour. Considering the location of personnel and operational practices of the irradiator, it is unlikely that an employee could receive more than the occupational dose limit which is 5,000 millirem/year. The expected dose rates outside the building are expected to be indistinguishable from naturally occurring background radiation, therefore it is unlikely that a member of the public could receive more than public dose limit which is 100 millirem/year. For the shipment of the radioactive sources, the maximum dose is also expected to be very small: 0.04 mrem/year. The staff also considered alternative treatments such as fumigation with methyl bromide and heat treatments.

The staff completed consultations under section 7 of the Endangered Species Act and section 106 of the National Historic Preservation Act. In addition the staff provided interested members of the public, the applicant, and State officials with an opportunity to comment on the draft EA.

The final EA includes two new sections. The first section deals with the NRC's consideration of terrorist activities and the second section discusses public comments on the draft EA and provides the NRC's corresponding response.

The complete final EA is available on the NRC's Web site: http://www.nrc.gov/materials.html by selecting “Pa'ina Irradiator” in the Quick Links box. Copies are also available by contacting Patricia Swain as noted above.

III. Finding of No Significant Impact

The NRC staff has prepared this final EA in support of the proposed action to issue a license to Pa'ina Hawaii for the possession and use of sealed radioactive sources in an underwater irradiator for the production and research irradiation of food, cosmetic, and pharmaceutical products. On the basis of this EA, NRC has concluded that there are no significant environmental impacts and the license application does not warrant the preparation of an Environmental Impact Statement. Accordingly, it has been determined that a Finding of No Significant Impact is appropriate.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: Pa'ina License Application, ML052060372; NRC final Environmental Assessment, ML071150121. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1-F21, One White Flint North, 11555 Rockville Pike, Rockville, MD 20852. The PDR reproduction contractor will copy documents for a fee.

Dated at Rockville, Maryland this 10th day of August, 2007.
For the Nuclear Regulatory Commission.
Patricia Swain,
Acting Chief, Environmental Review Branch, Division of Waste Management and Environmental Protection, Office of Federal and State Materials and Environmental Management Programs.

[FR Doc. E7-16255 Filed 8-16-07; 8:45 am]

BILLING CODE 7590-01-P